ENVIRONMENTAL PROTECTION AGENCY

[EPA-HQ-OAR-2020-0415; FRL-10016-00-OAR]

Proposed Information Collection Request; Comment Request; Implementation of the 8-Hour National Ambient Air Quality Standards for Ozone

AGENCY: Environmental Protection Agency (EPA).

ACTION: Notice.

SUMMARY: The U.S. Environmental Protection Agency (EPA) is planning to submit a renewal of an information collection request (ICR), “Implementation of the 8-hour National Ambient Air Quality Standards for Ozone: State Implementation Plan Requirements” (EPA ICR No. 2347.04, OMB Control No. 2060-0695), to the Office of Management and Budget (OMB) for review and approval in accordance with the Paperwork Reduction Act (PRA) (44 U.S.C. 3501 et seq.). This renewal provides updated burden estimates for the 2021-2024 time period for implementing the 2008 ozone National Ambient Air Quality Standards (NAAQS), and it provides new burden estimates for the information collection resulting from implementation of the 2015 ozone NAAQS. It also provides new burden estimates for the information collection resulting from ongoing implementation of the revoked 1997 ozone NAAQS. Before submittal to OMB, the EPA is soliciting public comments on specific aspects of the proposed information collection as described below. The time period covered in this ICR renewal is a 3-year period from April 2021 through April 2024. An agency may not conduct or sponsor, and a person is not required to respond to, a collection of information unless it displays a currently valid OMB control number.

DATES: Comments must be submitted on or before February 8, 2021.

ADDRESSES: Submit your comments, referencing Docket ID No. EPA-HQ-OAR-2020-0415, online using http://www.regulations.gov (our preferred method), or by mail to: EPA Docket Center, Environmental Protection Agency, Mail Code 28221T, 1200 Pennsylvania Ave. NW, Washington, DC 20460.

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

The EPA's policy is that all comments received will be included in the public docket without change including any personal information provided, unless the comment includes profanity, threats, information claimed to be Confidential Business Information, or other information whose disclosure is restricted by statute.

FOR FURTHER INFORMATION CONTACT: Mr. C.W. Stackhouse, Office of Air Quality Planning and Standards, U.S. Environmental Protection Agency, by phone at (919) 541-5208 or by email at stackhouse.butch@epa.gov.

SUPPLEMENTARY INFORMATION: Supporting documents which explain in detail the information that the EPA will be collecting are available in the public docket for this ICR. The docket can be viewed online at http://www.regulations.gov, or in person at the EPA Docket Center, WJC West, Room 3334, 1301 Constitution Avenue NW, Washington, DC. The telephone number for the Docket Center is (202) 566-1744. For additional information about EPA's public docket, visit http://www.epa.gov/dockets.

Pursuant to section 3506(c)(2)(A) of the PRA, the EPA is soliciting comments and information to enable it to: (i) Evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB. An agency may not conduct or sponsor, and a person is not required to respond to, a collection of information unless it displays a currently valid OMB control number.

Abstract: Currently, the EPA has an existing OMB-approved ICR that estimates the burden on states and EPA for implementation-related activities associated with the 2008 ozone NAAQS for the period February 2018 to April 2021. States with nonattainment areas for the 2008 ozone NAAQS are implementing the NAAQS pursuant to the CAA and implementation regulations issued for that NAAQS.¹ The state activities include, but are not limited to, developing and submitting attainment demonstrations, reasonable further progress plans, and reasonably available control technology (RACT) determinations. This proposed ICR renewal estimates the burden for states to meet the ongoing planning requirements that apply to their remaining nonattainment areas for the 2008 ozone NAAQS over the period April 2021 to April 2024. These requirements primarily affect 2008 ozone NAAQS nonattainment areas that may fail to attain the NAAQS by their attainment date during this time period and be reclassified to a higher classification with new SIP revisions required from the states.

¹ See 77 FR 30160, “Implementation of the 2008 National Ambient Air Quality Standards for Ozone: Nonattainment Area Classifications Approach, Attainment Deadlines and Revocation of the 1997 Ozone Standards for Transportation Conformity Purposes,” and 80 FR 12264, “Implementation of the 2008 National Ambient Air Quality Standards for Ozone: State Implementation Plan Requirements.”

In addition, this ICR renewal includes a new burden estimate for state and EPA activities related to implementing the 2015 8-hour ozone standard, promulgated on October 1, 2015. The two rules governing the implementation of that NAAQS, addressing classification of ozone nonattainment areas and the development of State Implementation Plans (SIPs) and other important implementation issues, provide clarity and certainty to states regarding their planning obligations for the 2015 8-hour NAAQS.² This proposed ICR estimates the burden for states to implement the 2015 ozone NAAQS based on the classification of the ozone nonattainment areas lying within those states, as well as for states in the Ozone Transport Region (OTR).

² See 83 FR 10376, “Implementation of the 2015 National Ambient Air Quality Standards for Ozone: Nonattainment Area Classifications Approach,” and 83 FR 62998, “Implementation of the 2015 National Ambient Air Quality Standards for Ozone: Nonattainment Area State Implementation Plan Requirements.”

Finally, this ICR renewal estimates a small amount of additional burden to states to meet the anti-backsliding requirements for the revoked 1997 NAAQS.

This proposed ICR thus estimates the implementation-related burden for states over the 3 years following the ICR approval date for all three 8-hour ozone NAAQS. The burden estimate for the 2008 NAAQS accounts for nine nonattainment areas currently classified as Serious that could be reclassified to Severe-15, and thus subject to additional attainment planning requirements, if the areas fail to attain the NAAQS by the July 20, 2021, attainment date. Such Severe area SIPs will be due within 12-24 months from the date of reclassification, which would be during the reporting period for this ICR. The burden estimate for the 2015 NAAQS is associated with plan development and plan revisions related to states' implementation efforts for 52 nonattainment areas, the majority of which were classified as Marginal, and assumes that 28 Marginal areas will fail to attain the 2015 NAAQS by the August 3, 2021 attainment date and thus will be subject to reclassification to Moderate and the SIP revisions required for Moderate areas. The burden estimate also accounts for meeting the planning requirements for the 12 states and the District of Columbia in the OTR, where the primary obligation for the 2015 NAAQS is to determine if the RACT requirement is satisfied by the previously approved SIP. The burden estimate for the 1997 NAAQS includes states developing and submitting the second maintenance plans required 8 years after the effective date of the first maintenance plans' final approval by EPA for areas redesignated from nonattainment to attainment. It is worth noting that in some cases, states will be implementing the 2008, 2015, and/or 1997 ozone NAAQS in the same areas concurrently during the 3-year ICR renewal period. The cumulative burden of states simultaneously implementing multiple NAAQS is reflected in this proposed ICR.

The estimates included in this ICR renewal include both the state burden to develop and submit, and the EPA burden to review and to approve or disapprove, attainment plans to meet the requirements prescribed in CAA sections 110 and part D, subparts 1 and 2 of title I as interpreted by EPA's SIP requirements rules. An ozone NAAQS attainment plan contains state rules and other measures designed to improve air quality and achieve the NAAQS by the deadlines established under the CAA. It also must address several additional CAA requirements related to demonstrating timely attainment, and must contain contingency measures in the event the nonattainment area does not achieve reasonable further progress throughout the attainment period or in the event the area does not attain the NAAQS by its attainment date. States that have attained by the applicable attainment date may be eligible to submit a redesignation request and maintenance plan to receive a redesignation from “nonattainment” to “attainment.” After a state submits an attainment or maintenance plan, the CAA requires the EPA to approve or disapprove the plan. Tribes may develop or submit attainment plans but are not required to do so.

The original ozone ICR No. 2347.01 that applied to the 2008 8-hour ozone NAAQS was issued after the ozone NAAQS was revised in 2012. The original ICR was renewed as No. 2347.02 for the period February 1, 2015 through January 31, 2018. The ICR No. 2347.02 was renewed in ICR No. 2347.03 for time period covered from February 1, 2018, through April 30, 2021. The ICR No. 2347.01 and the renewals applied to the 2008 8-hour ozone NAAQS before the ozone NAAQS was revised in 2015. This proposed ICR renewal adds the burden of implementing the 2015 8-hour ozone NAAQS and also continues to address any new requirements for the remaining 2008 ozone nonattainment areas. It also includes the estimated burden for a small number of areas subject to ongoing requirements to implement the revoked 1997 ozone NAAQS. This ICR will be effective from April 30, 2021 to April 30, 2024.

Respondents/affected entities: State and local governments.

Respondent's obligation to respond: Mandatory.

Estimated number of responses: 96.

Frequency of response: Once per triggering event [e.g., an air agency is required to revise and submit a SIP revision when the area is designated nonattainment or reclassified to a higher classification, or if it is in an OTR member state to determine if RACT is satisfied by the previously-approved state SIP. An air agency is also required to submit a second 10-year maintenance plan for maintenance areas or portions of maintenance areas for the 1997 ozone NAAQS not also designated as nonattainment for the 2008 ozone NAAQS, and for maintenance areas for the 2008 ozone NAAQS].

Estimated burden for respondents: 119,133 hours per year. Burden is defined at 5 CFR 1320.03(b).

Estimated labor cost for respondents: $8.4 M (present value) per year.

Estimated cost: $0 annualized capital or operation & maintenance costs.

Changes in estimates: The EPA expects an increase of 85,133 annual labor hours in the total estimated respondent burden compared with the ICR currently approved by OMB. This increase is due to the activities expected to occur during this period, which are similar but not identical to the SIP planning and submission activities in the previous ICR renewal period. As explained in greater detail below, the main factors contributing to the change include: (1) The addition of the new burden associated with the requirements for 2015 ozone NAAQS nonattainment areas and 1997 ozone NAAQS maintenance areas, which was not covered by the prior ICR, (2) the reduction in the number of 2008 ozone NAAQS nonattainment areas due to states' relative success in attaining the 2008 NAAQS, and (3) the increase in burden associated with the particular stage of the 2008 ozone implementation program that areas still in nonattainment for the 2008 NAAQS are in. In total, the EPA estimates there to be an additional burden of 357,400 hours for the state respondents over the 3-year period compared to the 102,000 hours during the period of the current renewal of the 8-hour ozone NAAQS ICR currently approved by OMB (EPA ICR No. 2247.03).

The main reason for the increase is the addition of the burden to implement the 2015 NAAQS in accordance with the 2015 ozone SIP Requirements rule, which requires submissions from air agencies for 52 nonattainment areas. In contrast, only 13 submissions are expected from air agencies to meet ongoing requirements for the 2008 ozone NAAQS during the ICR renewal period. Moreover, 28 of the 2015 ozone nonattainment areas are expected not to attain by the 2015 ozone NAAQS Marginal attainment date based on preliminary 2020 air quality data. The burden estimate is based on the 5,000 hours needed to meet SIP submittal requirements that result from an area being reclassified from Marginal to Moderate during the ICR 3-year period.

The 2008 ozone NAAQS burden does not significantly change. However, while there are fewer 2008 nonattainment areas now that might require reclassification than in the prior ICR period (13 versus 14) due to states' progress toward attainment, the anticipated reclassification of these nine areas to Severe will trigger submittal requirements during the upcoming period. An additional minor difference in burden is that previous ozone ICRs did not include the burden estimate included here for the states in the OTR to certify the current state SIPs meets the CAA section 184(b)(1)(B) RACT requirements.

Another additional minor difference in burden is that previous ozone ICRs did not include the burden estimate that is included here for the second maintenance plans required from states for four 1997 ozone maintenance areas and three 2008 ozone maintenance areas due 8 years after the effective date of the first maintenance plans' final approval by EPA.

Finally, the cost estimates differ because the current ICR renewal was based on estimates calculated using 2017 dollars and the new ICR renewal is based on 2020 dollars. The burden estimate is detailed in the supporting statement located in the docket for this proposed ICR. The adjustments to the cost assumptions are summarized in sections 6(b) and 6(c) of the supporting statement.

Dated: October 19, 2020.
Scott Mathias,
Director, Air Quality Policy Division.

[FR Doc. 2020-26872 Filed 12-7-20; 8:45 am]

BILLING CODE 6560-50-P